GENERAL SERVICES ADMINISTRATION

Federal Travel Regulation (FTR); Maximum Per Diem Rates for the States of California, Georgia, Illinois, New York, North Carolina, Ohio, South Carolina and Washington

AGENCY: Office of Governmentwide Policy, General Services Administration (GSA).

ACTION: Notice of Per Diem Bulletin 06-06, revised continental United States (CONUS) per diem rates.

SUMMARY: The General Services Administration (GSA) has reviewed the lodging rates for certain non-standard locations in the States of California, Georgia, Illinois, New York, North Carolina, Ohio, South Carolina and Washington, using more current lodging industry data, as well as data on where Federal travelers actually stay when visiting these locations. Also, GSA has reviewed the meals and incidental expenses (M&IE) rate for Aiken, South Carolina. The per diems prescribed in Bulletin 06-06 may be found at http://www.gsa.gov/perdiem.

DATES: This notice is effective May 1, 2006 and applies to travel performed on or after May 1, 2006.

FOR FURTHER INFORMATION CONTACT: For clarification of content, contact Patrick McConnell, Office of Governmentwide Policy, Travel Management Policy, at (202) 501-2362. Please cite FTR Per Diem Bulletin 06-06.

SUPPLEMENTARY INFORMATION:

A. Background

After an analysis of the per diem rates established for FY 2006 (see the Federal Register notices at 70 FR 52100, September 1, 2005, 70 FR 59349, October 12, 2005, 70 FR 68457, November 10, 2005, and 71 FR 3518, January 23, 2006), the per diem rates are being changed in the following locations:

State of California

• Alameda County

State of Georgia

• Chatham County

State of Illinois

• Cook and Lake Counties

State of New York

• The boroughs of Manhattan, Brooklyn, Queens, the Bronx, and Staten Island

State of North Carolina

• Mecklenburg County

State of Ohio

• Hamilton and Clermont Counties

State of South Carolina

• Aiken County

State of Washington

• Pierce County

B. Procedures

Per diem rates are published on the Internet at http://www.gsa.gov/perdiem as FTR Per Diem Bulletins, notice of which is published in the Federal Register on a periodic basis. This process ensures timely increases or decreases in per diem rates established by GSA for Federal employees on official travel within CONUS. Notices published periodically in the Federal Register, such as this one, now constitute the only notification of revisions in CONUS per diem rates to agencies.

Dated: April 3, 2006.
Becky Rhodes,
Deputy Associate Administrator, Office of Travel, Transportation and Asset Management.

[FR Doc. E6-5322 Filed 4-10-06; 8:45 am]

BILLING CODE 6820-14-S